DEPARTMENT OF AGRICULTURE

Rural Business-Cooperative Service

[Docket Number: RBS-21-BUSINESS-0003]

Inviting Applications for Value-Added Producer Grants and Solicitation of Grant Reviewers

AGENCY: Rural Business-Cooperative Service, USDA.

ACTION: Notice; amendment.

SUMMARY: The Rural Business-Cooperative Service (Agency) published a notice in the Federal Register on December 21, 2020 inviting applications for the Value-Added Producer Grant (VAPG) program. Subsequently, the Consolidated Appropriations Act, 2021, which provides $35 million in COVID-19 relief funds, was enacted. Accordingly, a total of $76 million in program funding is available. The agency is extending the application deadline, increasing available total funding for the program; allowing for application submission through email; eliminating the awarding of points for the Level of Commitment category specified in Section 1(c) of the original notice, and allowing for a reduced cost share match of 10 percent of the grant amount for the $35 million in COVID-19 relief funds. You should review this notice in its entirety for more specific information on changes that have been made to the original notice.

DATES: You must submit your application by May 4, 2021 for it to be considered for funding. Paper applications must be postmarked and mailed, shipped, or sent overnight by this date. You may also email or hand carry your application to one of our field offices, but applications submitted by this method must be received by 4:30 p.m. local time on May 4, 2021. Applications are permitted via https://www.grants.gov/ and must be received by 11:59 p.m. Eastern time on April 29, 2021. Late applications are not eligible for grant funding under this Notice.

ADDRESSES: To submit a paper application, send it to the State Office located in the State where your project will primarily take place. You can find State Office contact information at http://www.rd.usda.gov/contact-us/state-offices. To submit an application through email, contact your respective State Office before May 4, 2021 to obtain the Agency email address where you will submit your application. If you want to submit an application through Grants.gov, follow the instructions for the VAPG funding announcement on https://www.grants.gov/. Please review the Grants.gov website at https://www.grants.gov/web/grants/applicants/registration.html for instructions on the process of registering your organization as soon as possible to ensure you are able to meet the Grants.gov application deadline.

You should contact your USDA Rural Development State Office if you have questions about eligibility or submission requirements. You are encouraged to contact your State Office well in advance of the application deadline to discuss your project and to ask any questions about the application process. Application materials are available at http://www.rd.usda.gov/programs-services/value-added-producer-grants.

FOR FURTHER INFORMATION CONTACT: Greg York at (202) 281-5289, gregory.york@usda.gov, or Mike Daniels at (715) 345-7637, mike.daniels@usda.gov, Program Management Division, Rural Business-Cooperative Service, United States Department of Agriculture, 1400 Independence Avenue SW, Mail Stop 3226, Room—5801-S, Washington, DC 20250-3226, 202-720-1400, or email at CPgrants@usda.gov.

SUPPLEMENATARY INFORMATION: Authority:

The VAPG program is authorized under section 231 of the Agriculture Risk Protection Act of 2000 (Pub. L. 106-224), as amended by section 10102 of the Agriculture Improvement Act of 2018 (Pub. L. 115-334) (see 7 U.S.C. 1627c). Applicants must adhere to the requirements contained in the program regulation, 7 CFR part 4284, subpart J, which is incorporated by reference in this Notice.

Paperwork Reduction Act

In accordance with the Paperwork Reduction Act, the paperwork burden associated with this Notice has been approved by the Office of Management and Budget (OMB) under OMB Control Number 0570-0064.

Overview

Federal Agency Name: USDA Rural Business-Cooperative Service.

Funding Opportunity Title: Value-Added Producer Grant.

Announcement Type: Notice of Solicitation of Applications and Solicitation of Grant Reviewers.

Catalog of Federal Domestic Assistance Number: 10.352.

Dates: Application Deadline. You must submit your application by May 4, 2021 for it to be considered for funding. Paper applications must be postmarked and mailed, shipped or sent overnight by this date. You may also email or hand carry your application to one of our field offices, but it must be received by 4:30 p.m. local time on May 4, 2021. Applications are permitted via https://www.grants.gov/ and must be received before 11:59 p.m. Eastern time on April 29, 2021. Late applications are not eligible for grant funding under this Notice.

I. Background

The Agency published a Notice in the Federal Register on December 21, 2020 (85 FR 83038) (the original notice) announcing the availability of funding for competitive grants to assist eligible agricultural producers in starting or expanding value-added activities related to the processing and marketing of new products. The goals of this program are to generate new products, create and expand marketing opportunities, and increase producer income.

Under the original notice, applicants had until March 22, 2021 to submit a paper application and until March 16, 2021 to submit applications through Grants.gov (the new due dates are as specified in Section III(4) below). The original solicitation required the applicant to provide cost sharing match of at least $1 for every $1 in grant funds provided by the Agency.

The purpose of this Notice is to announce that the Consolidated Appropriations Act, 2021 (the FY 2021 Appropriations Act), provides an additional $35 million in funding for COVID-19 relief and allows for a reduced cost-share match of 10 percent of the grant amount (i.e., at least $1 from the applicant for every $10 in Agency grant funds) for these funds during the public health emergency.

II. General Funding Information

A. Type of Instrument

Grant. Maximum award amount for Planning Grant is $75,000; maximum award amount for Working Capital Grant is $250,000.

B. Available Funds

There is approximately $76 million in available funding. Of this amount, the COVID-19 relief funds constitute $35 million and the other $41 million comes from the FY 2021 Appropriations Act and carryover funding from fiscal year 2020. The $35 million in COVID-19 relief funds may include a reduced cost share match requirement of 10 percent of the grant amount. The other available funds have a statutory cost share match requirement of 100 percent of the grant amount. Please see section III., “Program Requirements and Changes,” for additional information.

C. Approximate Number of Awards

The number of awards will depend on the number of eligible participants and the total amount of requested funds.

III. Program Requirements and Changes

To be eligible for an award under this solicitation, applications must meet all the requirements contained in the original notice with the following exceptions for this amended notice:

1. Total available funding for FY 2021 is approximately $76 million.

2. Your application may include a reduced cost-share match of 10 percent of grant funds if you are competing for the $35 million in FY 2021 COVID-19 relief funds. You are not required to demonstrate how your business operations were impacted by the COVID-19 pandemic. Relief funds will be awarded in application scoring rank order until exhausted. If your application for COVID-19 relief funds is not selected for funding through the competitive process, you will have the opportunity to compete for the additional $41 million in funds if your application scores 50 points or above. You will be contacted by the Agency and will be required to submit a revised budget and work plan that includes the standard cost-share match of at least $1 for every $1 in grant funds. Applicants unable to meet the standard cost-share match will be ineligible to compete for the additional funding.

3. For the FY 2021 VAPG cycle, the Level of Commitment assignment of points for in-kind and cash match contributions will be eliminated from Commitments and Support scoring criterion (c).

Points for Commitments and Support will be redistributed as follows:

(i) 0 points will be awarded if you do not address the criterion.

(ii) Independent Producer Commitment:

(A) Sole Proprietor (one owner/producer): 1 point.

(B) Multiple Independent Producers (note: in cases where family members, such as husband and wife, are eligible Independent Producers, each family member will count as one Independent Producer): 2 points.

(iii) End-user commitment:

(A) No or insufficiently documented commitment from end-users: 0 points.

(B) Well-documented commitment from one end-user: 2 points.

(C) Well-documented commitment from more than one end-user: 4 points.

(iv) Third-party commitment:

(A) No, or insufficiently documented, commitment from third-parties: 0 points.

(B) Well-documented commitment from one third-party: 2 points.

(C) Well-documented commitment from more than one third-party: 4 points.

4. You must submit your application by May 4, 2021 for it to be considered for funding. Paper applications must be postmarked and mailed, shipped or sent overnight by this date. You may also email or hand carry your application to one of our field offices, but it must be received by 4:30 p.m. local time on May 4, 2021. Applications are permitted via https://www.grants.gov/ and must be received before 11:59 p.m. Eastern time on April 29, 2021. Late applications are not eligible for grant funding under this Notice.

5. If you are interested in serving as a non-federal independent grant reviewer, please send a resume addressing relevant qualifications and experience to CPGrants@wdc.usda.gov by April 5, 2021.

Program information and revised application templates can also be found at https://www.rd.usda.gov/programs-services/value-added-producer-grants.

Mark Brodziski,
Acting Administrator, Rural Business—Cooperative Service.

[FR Doc. 2021-04687 Filed 3-4-21; 8:45 am]

BILLING CODE 3410-XY-P